FEDERAL DEPOSIT INSURANCE CORPORATION

Agency Information Collection Activities: Submission for OMB Review; Comment Request Re: Regulatory Capital Rules

AGENCY: Federal Deposit Insurance Corporation (FDIC).

ACTION: Notice and request for comment.

SUMMARY: In accordance with the requirements of the Paperwork Reduction Act (PRA) of 1995 (44 U.S.C. chapter 35), the FDIC may not conduct or sponsor, and the respondent is not required to respond to, an information collection unless it displays a currently valid Office of Management and Budget (OMB) control number. As part of its continuing effort to reduce paperwork and respondent burden, the FDIC invites the general public and other Federal agencies to take this opportunity to comment on an extension, without change, of an existing information collection. On February 24, 2014 (79 FR 10150), the FDIC requested comment for 60 days on extension for three years of its information collection entitled Regulatory Capital Rules (OMB No. 3064-0153). No comments were received on the proposal to extend. The FDIC hereby gives notice of submission to OMB of its request to extend the collection.

DATES: Comments must be submitted on or before June 2, 2014.

ADDRESSES: Interested parties are invited to submit written comments to the FDIC by any of the following methods:

• http://www.FDIC.gov/regulations/laws/federal/notices.html.

• Email: comments@fdic.gov. Include the name of the collection in the subject line of the message.

• Mail: Leneta G. Gregorie (202-898-3719), Counsel, Room NYA-5050, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Leneta Gregorie, at the FDIC address above.

SUPPLEMENTARY INFORMATION: This notice requests public comment on the FDIC's request for extension of OMB's approval of the Regulatory Capital Rules information collection more fully described below. OMB approved the ICR under emergency procedures for review and clearance in accordance with the PRA. The FDIC is not proposing any changes to the existing ICR at this time. A description of the collection and the current burden estimates follows.

Proposal to extend the following currently approved collection of information:

Title: Regulatory Capital Rules.

OMB Number: 3064-0153.

Affected Public: State nonmember banks, state savings associations, and certain subsidiaries of those entities.

Estimated Number of Respondents: Advanced approaches—8; Minimum capital ratios—4,571; Standardized approach—4,571.

Frequency of Response: Occasional.

Estimated Time per Response: Varied.

Total Estimated Annual Burden: 737,275 hours.

General Description of Collection: This collection comprises the disclosure and recordkeeping requirements associated with minimum capital requirements and overall capital adequacy standards for insured state nonmember banks, state savings associations, and certain subsidiaries of those entities. The capital standards are consistent with agreements reached by the Basel Committee on Banking Supervision (BCBS) in “Basel III: A Global Regulatory Framework for More Resilient Banks and Banking Systems,” and with section 171 of the Dodd-Frank Act, which requires establishment of minimum risk-based and leverage capital requirements, and with section 939A of the Dodd-Frank Act, which requires the use of alternatives to credit ratings for calculating risk-weighted assets. The data is used by the FDIC to evaluate capital before approving various applications by insured depository institutions, to evaluate capital as an essential component in determining safety and soundness, and to determine whether an institution is subject to prompt corrective action provisions.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 28th day of April 2014.
Federal Deposit Insurance Corporation.
Robert E. Feldman,
Executive Secretary.

[FR Doc. 2014-09934 Filed 4-30-14; 8:45 am]

BILLING CODE 6714-01-P